DEPARTMENT OF DEFENSE

GENERAL SERVICES ADMINISTRATION

NATIONAL AERONAUTICS AND SPACE ADMINISTRATION

[OMB Control No. 9000-0032; Docket No. 2025-0053; Sequence No. 7]

Information Collection; Contractor Use of Interagency Fleet Management System Vehicles

AGENCY: Department of Defense (DOD), General Services Administration (GSA), and National Aeronautics and Space Administration (NASA).

ACTION: Notice and request for comments.

SUMMARY: In accordance with the Paperwork Reduction Act of 1995, and the Office of Management and Budget (OMB) regulations, DoD, GSA, and NASA invite the public to comment on an extension concerning contractor use of interagency fleet management system vehicles. DoD, GSA, and NASA invite comments on: whether the proposed collection of information is necessary for the proper performance of the functions of Federal Government acquisitions, including whether the information will have practical utility; the accuracy of the estimate of the burden of the proposed information collection; ways to enhance the quality, utility, and clarity of the information to be collected; and ways to minimize the burden of the information collection on respondents, including the use of automated collection techniques or other forms of information technology. OMB has approved this information collection for use through January 31, 2026. DoD, GSA, and NASA propose that OMB extend its approval for use for three additional years beyond the current expiration date.

DATES: DoD, GSA, and NASA will consider all comments received by June 2, 2025.

ADDRESSES: DoD, GSA, and NASA invite interested persons to submit comments on this collection through https://www.regulations.gov and follow the instructions on the site. This website provides the ability to type short comments directly into the comment field or attach a file for lengthier comments. If there are difficulties submitting comments, contact the GSA Regulatory Secretariat Division at 202-501-4755 or GSARegSec@gsa.gov.

Instructions: All items submitted must cite OMB Control No. 9000-0032, Contractor Use of Interagency Fleet Management System Vehicles. Comments received generally will be posted without change to https://www.regulations.gov, including any personal and/or business confidential information provided. To confirm receipt of your comment(s), please check www.regulations.gov, approximately two-to-three days after submission to verify posting.

FOR FURTHER INFORMATION CONTACT: FARPolicy@gsa.gov or call 202-969-4075.

SUPPLEMENTARY INFORMATION:

A. OMB Control Number, Title, and Any Associated Form(s)

9000-0032, Contractor Use of Interagency Fleet Management System Vehicles.

B. Need and Uses

This clearance covers the information that contractors must submit to comply with the following Federal Acquisition Regulation (FAR) requirements:

FAR 51.202—For the contracting officer to authorize a contractor's use of Interagency Fleet Management System (IFMS) vehicles, this FAR section requires contractors to submit the following information:

(1) A written statement that the contractor will assume, without the right of reimbursement from the Government, the cost or expense of any use of the IFMS vehicles and services not related to the performance of the contract;

(2) Evidence that the contractor has obtained motor vehicle liability insurance covering bodily injury and property damage, with limits of liability as required or approved by the agency, protecting the contractor and the Government against third-party claims arising from the ownership, maintenance, or use of an IFMS vehicle; and

(3) Any recommendations.

FAR 51.203—Once authorized by the contracting officer, this FAR section requires contractors to submit their request for IFMS vehicles and related services in writing to the appropriate GSA point of contact and include the following information:

(1) Two copies of the agency authorization;

(2) The number of vehicles and related services required and period of use;

(3) A list of employees who are authorized to request the vehicles or related services;

(4) A listing of equipment authorized to be serviced; and

(5) Billing instructions and address.

The contracting officer will use the information to determine the contractor's eligibility to obtain IFMS vehicles and related services, and to authorize this use. The GSA will also use this information to determine whether appropriate authorization has been granted by the contracting officer.

C. Annual Burden

Respondents: 20.

Total Annual Responses: 20.

Total Burden Hours: 20.

Obtaining Copies: Requesters may obtain a copy of the information collection documents from the GSA Regulatory Secretariat Division, by calling 202-501-4755 or emailing GSARegSec@gsa.gov. Please cite OMB Control No. 9000-0032, Contractor Use of Interagency Fleet Management System Vehicles.

Janet Fry,
Director, Federal Acquisition Policy Division, Office of Governmentwide Acquisition Policy, Office of Acquisition Policy, Office of Governmentwide Policy.

[FR Doc. 2025-05574 Filed 4-1-25; 8:45 am]

BILLING CODE 6820-EP-P